DEPARTMENT OF COMMERCE

International Trade Administration

A-570-851

Certain Preserved Mushrooms from the People's Republic of China: Notice of Initiation of Antidumping Duty New Shipper Review

AGENCY: Import Administration, International Trade Administration, Department of Commerce.

SUMMARY: The Department of Commerce (the Department) has received a request for a new shipper review of the antidumping duty order on certain preserved mushrooms from the People's Republic of China (PRC). See Notice of Amendment of Final Determination of Sales at Less Than Fair Value and Antidumping Duty Order: Certain Preserved Mushrooms From the People's Republic of China, 64 FR 8308 (February 19, 1999). In accordance with section 751(a)(2)(B) of the Tariff Act of 1930, as amended (the Tariff Act), and 19 CFR 351.214(d) (2008), we are initiating an antidumping duty new shipper review of Linyi City Kangfa Foodstuff Drinkable Co., Ltd. The period of review (POR) of this new shipper review is February 1, 2008, through January 31, 2009.

EFFECTIVE DATE: April 7, 2009.

FOR FURTHER INFORMATION CONTACT: Fred Baker or Robert James, AD/CVD Operations, Office 7, Import Administration, International Trade Administration, U.S. Department of Commerce, 14th Street and Constitution Avenue, NW, Washington, DC 20230, telephone: (202) 482-2924 or (202) 482-0649, respectively.

SUPPLEMENTARY INFORMATION:

Background

On February 19, 1999, the Department published the antidumping duty order on certain preserved mushrooms from the PRC. See Notice of Amendment of Final Determination of Sales at Less Than Fair Value and Antidumping Duty Order: Certain Preserved Mushrooms From the People's Republic of China, 64 FR 8308 (February 19, 1999). Thus, the antidumping duty order on certain preserved mushrooms has a February anniversary month. On February 26, 2009, the Department received a request for a new shipper review from Linyi City Kangfa Foodstuff Drinkable Co., Ltd., as exporter, and from its affiliate Linyi City Kangfa Foodstuff Drinkable Co., Ltd., Pingyi Branch, as producer (collectively “Kangfa”). The Department determined that the request contained certain deficiencies and requested that Kangfa correct the submission. See March 12, 2009, and March 20, 2009, letters from Robert James, Program Manager, to Kangfa. In accordance with the Department's requests, Kangfa corrected the problems in its initial submission dated February 26, 2009, with its complete March 26, 2009, submission. For the purposes of initiating this new shipper review, the Department determines that Kangfa's February 26, 2009, submission was timely filed.

Pursuant to the requirements set forth in section 751(a)(2)(B)(i) of the Tariff Act and 19 CFR 351.214(b)(2), Kangfa certified that (1) it did not export subject merchandise to the United States during the period of investigation (POI) (see section 751(a)(2)(B)(i)(I) of the Tariff Act and 19 CFR 351.214(b)(2)(ii)(A)); (2) since the initiation of the investigation it has never been affiliated with any company that exported subject merchandise to the United States during the POI (see section 751(a)(2)(B)(i)(II) and19 CFR 351.214(b)(2)(iii)(A)); and (3) its export activities were not controlled by the central government of the PRC (see 19 CFR 351.214(b)(2)(iii)(B)). In accordance with 19 CFR 351.214(b)(2)(iv), Kangfa submitted documentation establishing the following: (1) the date on which it first shipped subject merchandise to the United States; (2) the volume of its first shipment; and (3) the date of its first sale to an unaffiliated customer in the United States. Kangfa also certified it had no shipments to the United States during the period subsequent to its first shipment.

The Department conducted a Customs database query in an attempt to confirm that Kangfa's shipments of subject merchandise entered the United States for consumption, and that liquidation of such entries had been suspended for antidumping duties. See March 31, 2009, Kangfa New Shipper Review Initiation Checklist, question 15. The Department also examined whether U.S. Customs and Border Protection (CBP) confirmed that such entries were made during the new shipper review POR. The information we examined was consistent with that provided by Kangfa.

Initiation of Review

Based on information on the record and in accordance with section 751(a)(2)(B) of the Tariff Act and section 351.214(d) of the Department's regulations, we find that the request Kangfa submitted meets the statutory and regulatory requirements for initiation of a new shipper review. Accordingly, we are initiating a new shipper review of the antidumping duty order on certain preserved mushrooms from the People's Republic of China manufactured and exported by Kangfa. This review covers the period February 1, 2008 through January 31, 2009. We intend to issue the preliminary results of this review no later than 180 days after the date on which this review is initiated, and the final results within 90 days after the date on which we issue the preliminary results. See section 751(a)(2)(B)(iv) of the Tariff Act and 19 CFR 351.214(h)(i).

In cases involving non-market economies, the Department requires that a company seeking to establish eligibility for an antidumping duty rate separate from the country-wide rate provide evidence of de jure and de facto absence of government control over the company's export activities. See Notice of Final Determination of Sales at Less Than Fair Value: Bicycles From the People's Republic of China, 61 FR 19026, 19027 (April 30, 1996). Accordingly, we will issue a questionnaire to Kangfa that will include a separate rates section. This review will proceed if the response provides sufficient indication that Kangfa is not subject to either de jure or de facto government control with respect to its exports of preserved mushrooms. However, if Kangfa does not demonstrate eligibility for a separate rate it will be deemed not separate from other companies that exported during the POR, and the new shipper review will be rescinded.

On August 17, 2006, the Pension Protection Act of 2006 (H.R. 4) was signed into law. Section 1632 of H.R. 4 temporarily suspends the authority of the Department to instruct CBP to collect a bond or other security in lieu of a cash deposit in new shipper reviews. Therefore, the posting of a bond under section 751(a)(2)(B)(iii) of the Tariff Act in lieu of a cash deposit is not available in this case. Importers of certain preserved mushrooms manufactured and exported by Kangfa must continue to pay a cash deposit of estimated antidumping duties on each entry of subject merchandise (i.e., certain preserved mushrooms) at the current PRC-wide rate of 198.63 percent.

Interested parties may submit applications for disclosure under administrative protective order in accordance with 19 CFR 351.305 and 351.306.

This initiation and this notice are issued and published in accordance with section 751(a)(2)(B) of the Tariff Act and sections 351.214 and 351.221(c)(1)(i) of the Department's regulations.

Dated: March 31, 2009.
Gary Taverman,
Acting Deputy Assistant Secretary for Antidumping and Countervailing Duty Operations.

[FR Doc. E9-7864 Filed 4-6-09; 8:45 am]

BILLING CODE 3510-DS-S